NUCLEAR REGULATORY COMMISSION

10 CFR Part 50

RIN 3150-AG42

Risk-Informed Categorization and Treatment of Structures, Systems and Components for Nuclear Power Reactors

AGENCY: Nuclear Regulatory Commission.

ACTION: Proposed rule: Extension of comment period.

SUMMARY: On May 16, 2003 (68 FR 26511), the Nuclear Regulatory Commission (NRC) published in the Federal Register for a 75-day comment period proposed 10 CFR 50.69 “Risk-Informed Categorization and Treatment of Structures, Systems, and Components for Nuclear Power Plants.” The comment period for this proposed rule was to have expired on July 30, 2003. By letter dated July 3, 2003, Nuclear Energy Institute (NEI) requested a 30-day extension to the comment period. NEI indicated that this extension is to allow for the thorough review and refinement of comments developed by NEI's Option 2 task force and other constituents in the industry. In view of the importance of both the proposed rule and the industry's comments on it, the NRC has decided to extend the comment period by 30 days as requested.

DATE: The comment period has been extended and now expires on August 30, 2003. Comments received after this date will be considered if it is practical to do so, but the Commission is able to ensure consideration only for comments received on or before this date.

ADDRESSES: You may submit comments by any one of the following methods. Please include the following number (RIN 3150-AG42) in the subject line of your comments. Comments on rulemakings submitted in writing or in electronic form will be made available to the public in their entirety on the NRC rulemaking web site. Personal information will not be removed from your comments.

Mail comments to: Secretary, U.S. Nuclear Regulatory Commission, Washington, DC 20555-0001, ATTN: Rulemakings and Adjudications Staff.

E-mail comments to: SECY@nrc.gov. If you do not receive a reply e-mail confirming that we have received your comments, contact us directly at (301) 415-1966. You may also submit comments via the NRC's rulemaking web site at http://ruleforum.llnl.gov. Address questions about our rulemaking website to Carol Gallagher (301) 415-5905; email cag@nrc.gov.

Hand deliver comments to: 11555 Rockville Pike, Rockville, Maryland 20852, between 7:30 am and 4:15 pm Federal workdays. (Telephone (301) 415-1966).

Fax comments to: Secretary, U.S. Nuclear Regulatory Commission at (301) 415-1101.

Publicly available documents related to this rulemaking may be examined and copied for a fee at the NRC's Public Document Room (PDR), Public File Area O1 F21, One White Flint North, 11555 Rockville Pike, Rockville, Maryland. Selected documents, including comments, can be viewed and downloaded electronically via the NRC rulemaking web site at http://ruleforum.llnl.gov.

Publicly available documents created or received at the NRC after November 1, 1999, are available electronically at the NRC's Electronic Reading Room at http://www.nrc.gov/NRC/ADAMS/index.html. From this site, the public can gain entry into the NRC's Agencywide Document Access and Management System (ADAMS), which provides text and image files of NRC's public documents. If you do not have access to ADAMS or if there are problems in accessing the documents located in ADAMS, contact the NRC Public Document Room (PDR) Reference staff at 1-800-397-4209, 301-415-4737 or by email to pdr@nrc.gov.

FOR FURTHER INFORMATION CONTACT: Mr. Timothy Reed, Office of Nuclear Reactor Regulation, U.S. Nuclear Regulatory Commission, Washington DC 20555-0001; telephone (301) 415-1462; e-mail: tar@nrc.gov.

Dated at Rockville, Maryland this 22nd day of July, 2003.
For the Nuclear Regulatory Commission.
Annette L Vietti-Cook,
Secretary of the Commission.

[FR Doc. 03-19320 Filed 7-29-03; 8:45 am]

BILLING CODE 7590-01-P